DEPARTMENT OF COMMERCE

National Oceanic and Atmospheric Administration

RIN 0648-XE249

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a webinar that is open to the public.

DATES: The GMT meeting will be held Thursday, November 5, 2015, from 9 a.m. until 12 p.m.

ADDRESSES: To attend the webinar (1) join the meeting by visiting this link http://www.gotomeeting.com/online/webinar/join-webinar; (2) enter the Webinar ID: 139-525-979, and (3) enter your name and email address (required). After logging in to the webinar, please (1) dial this TOLL number +1 (562) 247-8321 (not a toll-free number); (2) enter the attendee phone audio access code 889-990-126; and (3) then enter your audio phone pin (shown after joining the webinar). Participants are encouraged to use their telephone, as this is the best practice to avoid technical issues and excessive feedback. (See the PFMC GoToMeeting Audio Diagram for best practices). Technical Information and System Requirements: PC-based attendees are required to use Windows® 7, Vista, or XP; Mac®-based attendees are required to use Mac OS® X 10.5 or newer; Mobile attendees are required to use iPhone®, iPad®, Android™ phone or Android tablet (See the GoToMeeting WebinarApps).

You may send an email to kris.kleinschmidt@noaa.gov or contact him at (503) 820-2280, extension 425 for technical assistance. A public listening station will also be provided at the Council office.

Council address: Pacific Council, 7700 NE. Ambassador Place, Suite 101, Portland, OR 97220-1384.

FOR FURTHER INFORMATION CONTACT: Ms. Kelly Ames, Pacific Council; telephone: (503) 820-2426.

SUPPLEMENTARY INFORMATION: The primary purpose of the GMT working meeting is to prepare for the November 2015 Pacific Council meeting. The GMT may also address other assignments relating to groundfish management. No management actions will be decided by the GMT. Public comment will be accommodated if time allows, at the discretion of the GMT Chair. The GMT's task will be to develop recommendations for consideration by the Pacific Council at its November 13-19, 2015 meeting in Garden Grove, CA.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at (503) 820-2425 at least 5 days prior to the meeting date.

Dated: October 13, 2015.
Tracey L. Thompson,
Acting Deputy Director, Office of Sustainable Fisheries, National Marine Fisheries Service.

[FR Doc. 2015-26351 Filed 10-15-15; 8:45 am]

BILLING CODE 3510-22-P